DEPARTMENT OF TRANSPORTATION

Federal Aviation Administration

Public Notice for Intent To Release Airport Property

AGENCY: Federal Aviation Administration (FAA), DOT.

ACTION: Notice of intent to rule on request to release airport property for non-aeronautical use; Fairbanks International Airport (FAI), Fairbanks, Alaska.

SUMMARY: The FAA proposes to rule and invites public comment on the release of the aeronautical use only provision for land at the Fairbanks International Airport, Fairbanks, Alaska.

DATES: Comments must be received on or before September 25, 2019.

ADDRESSES: Documents are available for review by appointment at the FAA Anchorage Airports Regional Office, Molly Lamrouex, Compliance Manager, 222 W 7th Avenue, Anchorage, AK. Telephone: (907) 271-5439 and the Fairbanks International Airport, 6450 Airport Way, Suite 1, Fairbanks, AK 99709. Telephone: (907) 474-2549.

Written comments on the Sponsor's request must be delivered or mailed to: Molly Lamrouex, Compliance Manager, Federal Aviation Administration, Airports Anchorage Regional Office, 222 W 7th Avenue, Anchorage AK 99513, Telephone Number: (907) 271-5439.

FOR FURTHER INFORMATION CONTACT: Molly Lamrouex, Compliance Manager, Federal Aviation Administration, Alaskan Region Airports District Office, 222 W 7th Avenue, Anchorage, AK 99513. Telephone Number: (907) 271-5439/FAX Number: (907) 271-2851.

SUPPLEMENTARY INFORMATION: The FAA invites public comment on the request to release the aeronautical use only grant provision for three parcels on the west side of FAI, under the provisions of 49 U.S.C. 47107(h)(2). The Alaska Department of Transportation and Public Facilities has requested from the FAA that West lease lot block 10 (lots 8/9); West lease lot Block 3 (lot 12) and West lease lot Block 3 (lot 13) be released for non-aeronautical use. These lease lots have no direct access to the airfield. The FAA has determined that the release of the property will not likely adversely impact future aviation needs at the airport and will generate revenue for the airport via assessment of lease rates at the non-aeronautical rate. The FAA may approve the request, in whole or in part, no sooner than 30 days after the publication of this notice.

Issued in Anchorage, Alaska, on August 21, 2019.
Matthew K. Stearns,
Acting Director, Alaskan Airports Regional Office, FAA, Alaskan Region.

[FR Doc. 2019-18328 Filed 8-23-19; 8:45 am]

BILLING CODE 4910-13-P